GENERAL SERVICES ADMINISTRATION

Office of Management Services; Revision of SF 1444, Request for Authorization of Additional Classification and Rate

AGENCY: Office of Management Services, GSA.

ACTION: Notice.

SUMMARY: The General Services Administration (GSA), Office of Governmentwide Policy revised the SF 1444, Request for Authorization of Additional Classification and Rate to:

a. Update the reporting burden statement due to a reorganization;

b. Revise the instructions for copy distribution; and

c. Make authorized for local reproduction. The form is now a single cutsheet instead of a 5 part set.

Since this form is now authorized for local reproduction, you can obtain the updated camera copy in two ways:

On the internet. Address: http://www.gsa.gov/forms; or from Forms-CAP, Attn.: Barbara Williams, (202) 501-0581.

The Federal Acquisition Regulation will reflect this change at a later date.

FOR FURTHER INFORMATION CONTACT: Ms. Barbara Williams, General Services Administration, (202) 501-0581.

DATES: Effective March 14, 2003.

Dated: March 4, 2003.
Barbara M. Williams,
Deputy Standard and Optional Forms Management Officer, General Services Administration.

[FR Doc. 03-6125 Filed 3-13-03; 8:45 am]

BILLING CODE 6820-34-M